DEPARTMENT OF TRANSPORTATION

Federal Aviation Administration

14 CFR Part 73

[Docket No. FAA-2015-2193; Airspace Docket No. 15-AWP-8]

RIN 2120-AA66

Proposed Establishment of Restricted Area R-2507W; Chocolate Mountains, CA

AGENCY: Federal Aviation Administration (FAA), DOT.

ACTION: Notice of proposed rulemaking (NPRM).

SUMMARY: This action proposes to establish restricted area R-2507W, Chocolate Mountains, CA, to support training activities that involve the use of advanced weapons systems. Proposed R-2507W is needed by the United States Marine Corps (USMC) to enhance training and safety requirements in order to maintain, train, and equip combat-ready military forces.

DATES: Comments must be received on or before September 3, 2015.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2015-2193 and Airspace Docket No. 15-AWP-8, at the beginning of your comments. You may also submit comments through the Internet at www.regulations.gov. Comments on environmental and land use aspects to should be directed to: Kelly Finn, Naval Facilities Engineering Command Southwest, 1220 Pacific Highway, Building 1, Room 323, San Diego, CA 92132; telephone: (619) 532-4452.

FOR FURTHER INFORMATION CONTACT: Jason Stahl, Airspace Policy and Regulations Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would modify the restricted area airspace at Chocolate Mountains, CA, to enhance aviation safety and accommodate essential USMC training requirements.

Background

The Chocolate Mountain Aerial Gunnery Range (CMAGR), located in Imperial and Riverside Counties, CA is primarily used for live-fire aviation and ground warfare training conducted by USMC and Navy forces. Marine aviation plays a crucial role in the ability of Marine Air-Ground Task Forces (MAGTF) to conduct maneuver warfare. The ultimate goal of Marine aviation is to attain the highest possible combat readiness to support expeditionary maneuver warfare while preserving and conserving Marine forces and equipment. Embedded within combat readiness is the requirement that Marine aviation units maintain the ability to rapidly, effectively, and efficiently deploy a combat-capable aircrew and aircraft on short notice, and maintain the ability to quickly and effectively plan for crises and/or contingency operations. R-2507W would allow Marine aviation to attain and maintain this capability.

Current procedures require the periodic renewal of the CFAs over this area. Because nonparticipating aircraft may transit the CFAs without limitation and without warning, safety of flight concerns often result in lengthy training interruptions and failure to meet training requirements. A higher-level demand for greater throughput of both ground and aviation training in order to support real world operations will likely increase the frequency of these incidents. The USMC considered the existing R-2507N and the adjacent R-2507S restricted areas in order to meet the expanded training requirements. The existing restricted areas, which are primarily used for aerial ordnance delivery and air strikes, are incompatible with required co-use ground training activities. Alternate location suitability studies were conducted to examine alternatives for the ground training activities. The studies determined that the training capabilities offered in the proposed R-2507W are unique and cannot be replicated elsewhere without significant cost, time, and undue degradation or failure to meet USMC requirements.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2015-2193 and Airspace Docket No. 15-AWP-8) and be submitted in triplicate to the Docket Management System (see ADDRESSES section for address and phone number). You may also submit comments through the Internet at www.regulations.gov.

Commenters wishing the FAA to acknowledge receipt of their comments on this action must submit with those comments a self-addressed, stamped postcard on which the following statement is made: “Comments to FAA Docket No. FAA-2015-2193 and Airspace Docket No. 15-AWP-8.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at www.regulations.gov.

You may review the public docket containing the proposal, any comments received and any final disposition in person at the Dockets Office (see ADDRESSES section for address and phone number) between 9:00 a.m. and 5:00 p.m., Monday through Friday, except Federal holidays. An informal docket may also be examined during normal business hours at the office of the Operations Support Group, Western Service Center, Federal Aviation Administration, 1601 Lind Ave. SW., Renton, WA 98057.

Persons interested in being placed on a mailing list for future NPRMs should contact the FAA's Office of Rulemaking, (202) 267-9677, for a copy of Advisory Circular No. 11-2A, Notice of Proposed Rulemaking Distribution System, which describes the application procedure.

The Proposal

This proposal would establish new restricted area. R-2507W to accommodate live direct and indirect surface to surface fires associated with established live fire ranges and maneuver areas supporting Naval Special Warfare and Marine Corps ground unit training. This proposed restricted area is required to effectively de-conflict Department of Defense and civilian air traffic from hazards associated with live fire training.

Specific aviation activities and maximum altitudes within the R-2507W would include both live fire and non-live fire aviation training activities such as Basic Ordnance Delivery, Close Air Support, Air-to-Air Gunnery, Laser Ranging and Designating, and Air Strikes. As part of the Marine Corps' training in R-2507, the Marine Corps Air Command and Control organization will develop a battle space management plan. This plan will establish ground fire support and airspace coordination measures in a way that integrates ground and air operations in planning and execution within the MAGTF. Supersonic flight will not be conducted as part of the above aviation training activities.

Surface-to-surface and surface-to-air activities conducted within the R-2507W would include live fire from various small arms, machine guns, anti-tank weapons, mortars, and hand grenades. Direct fire weapons will be used in this area 6-24 hours per day, no less than 300 days per year. A minimum of 40 percent use of the planned live fire ranges will occur during hours of darkness (from 2200-0700).

Expansion of the current restricted area complex supports an increase in both Marine Corps and Naval aviation and ground training requirements. In addition, the expansion would allow critically required co-use of R-2507W in order to meet those increased training requirements.

Regulatory Notices and Analyses

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subjected to an environmental analysis in accordance with FAA Order 1050.1E, “Environmental Impacts: Policies and Procedures,″ prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.25 California (Amended)

2. § 73.25 is amended as follows:

* * * * *

R-2507W West Chocolate Mountains, CA [New]

Boundaries. Beginning at latitude 33°14′00″ N., longitude 115°22′33″ W.; to latitude 33°13′14″ N., longitude 115°23′17″ W.; to latitude 33°13′58″ N., longitude 115°24′26″ W.; to latitude 33°14′22″ N., longitude 115°25′29″ W.; to latitude 33°15′40″ N., longitude 115°27′36″ W.; to latitude 33°17′28″ N., longitude 115°29′42″ W.; to latitude 33°19′17″ N., longitude 115°32′13″ W.; to latitude 33°21′11″ N., longitude 115°34′39″ W.; to latitude 33°22′58″ N., longitude 115°38′19″ W.; to latitude 33°27′26″ N., longitude 115°43′30″ W.; to latitude 33°29′25″ N., longitude 115°46′08″ W.; to latitude 33°31′09″ N., longitude 115°41′12″ W.; to latitude 33°32′50″ N., longitude 115°37′37″ W.; to latitude 33°32′40″ N., longitude 115°33′53″ W.; to latitude 33°28′30″ N., longitude 115°42′13″ W.; to latitude 33°23′40″ N., longitude 115°33′23″ W.; to latitude 33°21′30″ N., longitude 115°32′58″ W.; to the point of beginning.

Designated altitudes. Surface to FL 230.

Time of designation. Continuous.

Controlling agency. FAA, Los Angeles Air Route Traffic Control Center (ARTCC).

Using agency. USMC, Commanding Officer, Marine Corps Air Station (MCAS) Yuma, AZ.

Issued in Washington, DC, on July 14, 2015.
Gary Norek,
Manager, Airspace Policy and Regulations Group.

[FR Doc. 2015-17702 Filed 7-17-15; 8:45 am]

BILLING CODE 4910-13-P